DEPARTMENT OF COMMERCE

International Trade Administration

United States Travel and Tourism Advisory Board Charter Renewal

AGENCY: International Trade Administration, U.S. Department of Commerce.

ACTION: Notice.

SUMMARY: The Chief Financial Officer and Assistant Secretary of Commerce for Administration, with the concurrence of the General Services Administration, renewed the Charter for the United States Travel and Tourism Advisory Board on August 16, 2021.

DATES: The Charter for the United States Travel and Tourism Advisory Board was renewed on August 16, 2021.

FOR FURTHER INFORMATION CONTACT: Jennifer Aguinaga, the United States Travel and Tourism Advisory Board, Room 10003, 1401 Constitution Avenue NW, Washington, DC 20230, telephone: 202-482-2404, email: TTAB@trade.gov.

SUPPLEMENTARY INFORMATION: This Notice is published pursuant to the Federal Advisory Committee Act, as amended (FACA), 5 U.S.C., App., § 9(c). It has been determined that the Committee is necessary and in the public interest. The Committee was established pursuant to Commerce's authority under 15 U.S.C. 1512, established under the FACA, as amended, 5 U.S.C. App., and with the concurrence of the General Services Administration. The Committee provides advice to the Secretary on government policies and programs that affect the U.S. travel and tourism industry.

Jennifer Aguinaga,
Designated Federal Officer, U.S. Travel and Tourism Advisory Board.

[FR Doc. 2021-18277 Filed 8-24-21; 8:45 am]

BILLING CODE 3510-DR-P